Proclamation 10363 of April 1, 2022

National Public Health Week, 2022

By the President of the United States of America

A Proclamation

Each year, National Public Health Week provides a chance for all of us to come together to restore and strengthen the public health of our Nation. As we have seen so starkly over the past 2 years, public health is essential to every part of our National life—not only to the safety and well-being of our families and communities but also to our prosperity. This week, we celebrate the progress we have made to revitalize our public health, recommit ourselves to the work that still remains, and recognize all of the remarkable health care workers and public health professionals whose extraordinary sacrifice and courage on the front lines have carried our Nation through one of the most difficult periods in our history.

Thanks to our brave and dedicated public health and health care workforce, the resilience of the American people, and our comprehensive strategy to tackle COVID-19, our Nation is far better positioned today than we were a year ago. Vaccines and boosters have been proven to offer the highest level of protection—and today, more than 250 million Americans have stepped up to protect themselves and their communities by getting at least one shot, saving more than a million American lives. We are ready with millions of antiviral treatments that reduce your chance of ending up in the hospital by 90 percent. We are continuing to vaccinate the world, having sent over half a billion vaccine doses to 114 countries with more to come.

My Administration has made hundreds of millions of tests available for Americans to order directly to their homes for free. We have successfully reopened schools and businesses across the country, most Americans can now go safely mask-free, and together we are moving forward safely back to more normal routines. We have positioned ourselves well to detect and prepare for new variants and have more tools to protect people than ever before—but making sure these tools are readily available requires additional funding from the Congress. We urgently need the Congress to provide the funding we have requested to maintain our preparedness against COVID-19 and ensure the American people continue to have access to treatments, vaccines, and tests. The consequences of inaction are severe and immediate, and they will only get more significant over time.

While COVID-19 remains a top public health priority, we are committed to a full range of efforts to improve the Nation's general health, safety, and resilience. Last year, through the American Rescue Plan and other actions, we expanded access to—and lowered the cost of—quality health care for millions of Americans. In addition, we made new investments in mental health services; innovative health care technologies; our public health and health care workforce; and maternal, infant, and early childhood programs. Through the Bipartisan Infrastructure Law, we are also helping to address long-standing health inequities that have burdened communities of color and low-income neighborhoods for far too long. Because of this law, we are beginning to replace poisonous lead pipes so that every child, in every home and school in America, finally has clean water to drink. By making landmark investments in public transit and delivering high-speed internet to every single community in the country, we are also making health care and telehealth services more accessible to each and every family.

Of course, there is much more that we need to do to improve our public health and build a better America. As we continue our fight to defeat the pandemic, we must also continue to expand health coverage and lower the cost of health care for every family—including the cost of prescription drugs like insulin. We must make transformational investments in our climate resilience and continue to address dangerous environmental injustices that threaten public health and have hit communities of color the hardest. We must take commonsense steps to address the public health epidemic of gun violence, which disproportionately impacts Black Americans. We must come together to address the toll that the mental health epidemic takes on America's children, deliver the physical and mental health care that our veterans and service members deserve, and make landmark investments to spark breakthroughs in our fight against cancer, Alzheimer's, diabetes, and other diseases.

During National Public Health Week, we recommit ourselves to reaching these goals—to improve our public health and, in so doing, improve our safety and security, our economic strength, the equity and fairness of our Nation, and our quality of life. Together, we share our appreciation to all those who safeguard the Nation's public health through acts of service and those who seek to strengthen communities by fostering equitable opportunities for all. My Administration encourages all Americans to do their part for public health—especially by getting vaccinated and receiving a booster shot, if eligible. It takes all of us to preserve the health of our Nation, and together we are poised to make tremendous progress to build a better, stronger, and healthier America.

NOW, THEREFORE, I, JOSEPH R. BIDEN JR., President of the United States of America, by virtue of the authority vested in me by the Constitution and the laws of the United States, do hereby proclaim April 4 through April 10, 2022, as National Public Health Week. I call on all citizens, government agencies, private businesses, non-profit organizations, and other groups to take action to improve the health of our Nation.

IN WITNESS WHEREOF, I have hereunto set my hand this first day of April, in the year of our Lord two thousand twenty-two, and of the Independence of the United States of America the two hundred and forty-sixth.

[FR Doc. 2022-07444

Filed 4-5-22; 8:45 am]

Billing code 3395-F2-P